FEDERAL COMMUNICATIONS COMMISSION

47 CFR Part 73

[DA 08-1840; MB Docket No. 08-227; RM-11493]

Radio Broadcasting Services; Batesville, Texas

AGENCY: Federal Communications Commission.

ACTION: Final rule.

SUMMARY: The Audio Division grants a Petition for Rule Making issued at the request of Katherine Pyeatt, proposing the allotment of Channel 250A at Batesville, Texas, as its first local service. Channel 250A at Batesville can be allotted, consistent with the minimum distance separation requirements of the Commission's Rules with the imposition of a site restriction located 11.4 kilometers (7.1 miles) east of the community at reference coordinates 28-58-27 NL and 99-30-12 WL.

DATES: Effective October 5, 2009.

ADDRESSES: Secretary, Federal Communications Commission, 445 12th Street, SW, Washington, DC 20554.

FOR FURTHER INFORMATION CONTACT: Rolanda F. Smith, Media Bureau, (202) 418-2180.

SUPPLEMENTARY INFORMATION: This is a summary of the Commission's Report and Order, MB Docket No. 08-227, adopted August 19, 2009, and released August 21, 2009. The Notice of Proposed Rule Making proposed the allotment of Channel 250A at Batesville, Texas. See 73 FR 76577, published December 17, 2008. The full text of this Commission document is available for inspection and copying during normal business hours in the Commission's Reference Information Center (Room CY-A257), 445 12th Street, SW., Washington, DC. 20554. The complete text of this decision may also be purchased from the Commission's duplicating contractor, Best Copy and Printing, Inc., 445 12th Street, SW, Room CY-B402, Washington, DC 20554, telephone 800-378-3160 or via the company's website, <http://www.bcpiweb.com>. This document does not contain proposed information collection requirements subject to the Paperwork Reduction Act of 1995, Public Law 104-13. In addition, therefore, it does not contain any proposed information collection burden ”for small business concerns with fewer than 25 employees,” pursuant to the Small Business Paperwork Relief Act of 2002, Public Law 107-198, see 44 U.S.C. 3506(c)(4). The Commission will send a copy of this Report and Order in a report to be sent to Congress and the Government Accountability Office pursuant to the Congressional Review Act, see 5 U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Texas, is amended by adding

Batesville, Channel 250A.

Federal Communications Commission.
John A. Karousos,
Assistant Chief.

[FR Doc. E9-22440 Filed 9-17-09; 8:45 am]

BILLING CODE 6712-01-S